DEPARTMENT OF HEALTH AND HUMAN SERVICES

Centers for Disease Control and Prevention

[60Day-25-0891; Docket No. CDC-2024-0086]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other Federal agencies the opportunity to comment on a proposed and/or continuing information collection, as required by the Paperwork Reduction Act of 1995. This notice invites comment on a proposed information collection project titled World Trade Center (WTC) Health Program Enrollment, Appeals & Reimbursement. The WTC Health Program is a Federal limited benefit health care program providing medical monitoring and treatment benefits to eligible firefighters and related personnel, law enforcement officers, and rescue, recovery, and cleanup workers who responded to the September 11, 2001, attacks in New York City, at the Pentagon, and in Shanksville, Pennsylvania (responders), and to eligible persons who were present in the dust or dust cloud on September 11, 2001, or who worked, resided, or attended school, childcare, or adult daycare in the New York City disaster area (survivors).

DATES: CDC must receive written comments on or before January 3, 2025.

ADDRESSES: You may submit comments, identified by Docket No. CDC-2024-0086 by either of the following methods:

• Federal eRulemaking Portal: www.regulations.gov. Follow the instructions for submitting comments.

• Mail: Jeffrey M. Zirger, Information Collection Review Office, Centers for Disease Control and Prevention, 1600 Clifton Road NE, MS H21-8, Atlanta, Georgia 30329.

Instructions: All submissions received must include the agency name and Docket Number. CDC will post, without change, all relevant comments to www.regulations.gov.

Please note: Submit all comments through the Federal eRulemaking portal (www.regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS H21-8, Atlanta, Georgia 30329; Telephone: 404-639-7570; Email: omb@cdc.gov.

SUPPLEMENTARY INFORMATION:

Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected;

4. Minimize the burden of the collection of information on those who are to respond, including through the use of appropriate automated, electronic, mechanical, or other technological collection techniques or other forms of information technology, e.g., permitting electronic submissions of responses; and

5. Assess information collection costs.

Proposed Project

World Trade Center Health Program Enrollment, Appeals & Reimbursement (OMB Control No. 0920-0891, Exp. 09/30/2025)—Revision—National Institute for Occupational Safety and Health (NIOSH), Centers for Disease Control and Prevention (CDC).

Background and Brief Description

The National Institute for Occupational Safety and Health (NIOSH) seeks OMB approval for a Revision of an ongoing information collection titled World Trade Center Health Program Enrollment, Appeals & Reimbursement (OMB Control No. 0920-0891). In accordance with the James Zadroga 9/11 Health and Compensation Act of 2010, individuals newly seeking enrollment in the World Trade Center (WTC) Health Program as responders or survivors may apply to the Program. The recently passed National Defense Authorization Act for Fiscal Year 2024 (NDAA) expands Program enrollment eligibility for Pentagon and Shanksville responders. title I of the Zadroga Act (Pub. L. 111-347, as amended by Pub. L. 114-113 and Pub. L. 116-59), added title XXXIII to the Public Health Service Act (PHS Act), establishing the World Trade Center (WTC) Health Program within the Department of Health and Human Services (HHS). The Director of NIOSH serves as the Administrator of the WTC Health Program for most purposes, with certain payment functions carried out by the Centers for Medicare & Medicaid Services. As established by the Zadroga Act, the WTC Health Program is a Federal limited benefit health care program providing medical monitoring and treatment benefits to eligible firefighters and related personnel, law enforcement officers, and rescue, recovery, and cleanup workers who responded to the September 11, 2001, attacks in New York City, at the Pentagon, and in Shanksville, Pennsylvania (responders), and to eligible persons who were present in the dust or dust cloud on September 11, 2001, or who worked, resided, or attended school, childcare, or adult daycare in the New York City disaster area (survivors). The WTC Health Program has been authorized for 75 years (through 2090).

Respondents are WTC Health Program members and potential members. In this Revision, NIOSH requests OMB approval of the revised WTC Health Program Pentagon/Shanksville Application for Enrollment, to include language regarding the expanded eligibility criteria mandated by the National Defense Authorization Act (NDAA) for Fiscal Year 2024. NIOSH also requests OMB approval of a new web-based Youth Research Cohort (YRC) Registration portal that will be used to engage future cohort members and allow them to self-enroll into the YRC.

In this Revision, total annualized burden will increase from 12,882 hours to 16,132 (+3,250 hours). The greatest increase in burden (+3,000 hours) is the result of the new secure, public-facing web-based portal for the YRC. In December 2022, the Consolidated Appropriations Act, 2023 (Pub. L. 117-328), amended section 3341 of the PHS Act to direct the Administrator to establish a new cohort for future research. This portal has been developed to engage with future cohort members and streamline the enrollment process into the YRC. This web-based portal will maintain the privacy and data protection of future cohort members in accordance with the provisions of the Health Insurance Portability and Accountability Act of 1996 (HIPAA) and HIPAA regulations.

Another increase in annualized burden (+250 hours) is due to the expanded eligibility for Program membership for Pentagon and Shanksville responders, as mandated in the NDAA. The WTC Health Program Pentagon/Shanksville Application for Enrollment has been updated to reflect the new eligibility criteria mandated by the NDAA. The revised application now includes an additional eligibility question targeting specific groups such as active duty, retired, or reserve members of the military, civilian employees of the Department of Defense (DOD), or certain DOD contractors who responded to the Pentagon or Shanksville sites. The application also now clarifies that in addition to the work status, the responder must have participated in rescue, recovery, demolition, debris cleanup, or other related services to be eligible to enroll in the Program.

Estimated Annualized Burden Hours
Type of respondent | Form name | Number of respondents | Number of responses per respondent | Average burden per response (in hours) | Total burden hours
FDNY Responder | World Trade Center Health Program FDNY Responder Application for Enrollment | 140 | 1 | 30/60 | 70
General Responder | World Trade Center Health Program Responder Application for Enrollment (Other than FDNY) | 6,215 | 1 | 30/60 | 3,108
Pentagon/Shanksville Responder | World Trade Center Health Program Pentagon/Shanksville Responder Application for Enrollment | 742 | 1 | 30/60 | 371
WTC Survivor | World Trade Center Health Program Survivor Application for Enrollment (all languages) | 9,240 | 1 | 30/60 | 4,620
General responder | Clinic Selection Postcard for new general responders in NY/NJ to select a clinic | 3,830 | 1 | 15/60 | 958
Interested Party | Petition for the addition of health conditions | 35 | 1 | 1 | 35
Program Applicants or Members | Designated Representative Appointment Form | 1,300 | 1 | 15/60 | 325
Program Applicants or Members | Designated Representative HIPAA Release Form | 1,300 | 1 | 15/60 | 325
Program Members | Member Satisfaction Survey | 6,600 | 1 | 30/60 | 3,300
General Public | WTC Health Program HIPAA Authorization for Deceased Individuals | 30 | 1 | 15/60 | 8
Program Applicants or Members | WTC Health Program General HIPAA Authorization to Third Parties | 30 | 1 | 15/60 | 8
Program Applicants or Members | Designated Representative Appointment Form | 15 | 1 | 15/60 | 4
Youth Research Cohort Enrollees | Youth Research Cohort Registration Portal | 6,000 | 1 | 30/60 | 3,000
Total |  |  |  |  | 16,132

Jeffrey M. Zirger,
Lead, Information Collection Review Office, Office of Public Health Ethics and Regulations, Office of Science, Centers for Disease Control and Prevention.

[FR Doc. 2024-25556 Filed 11-1-24; 8:45 am]

BILLING CODE 4163-18-P